GENERAL SERVICES ADMINISTRATION

41 CFR Chapter 301

[FTR notice 2011-01; Docket No. 2011-0002; Sequence 5]

Federal Travel Regulation (FTR): Temporary Duty (TDY) Travel Allowances: Notice of Public Meeting; Correction

AGENCY: Office of Governmentwide Policy, General Services Administration (GSA).

ACTION: Notice of Public Meeting; correction.

SUMMARY: The General Services Administration (GSA) published a notice in the Federal Register on July 20, 2011 (76 FR 43236), announcing a public meeting to industry and the general public in an effort to streamline travel policies, incorporated travel efficiency and effectiveness, and incorporated industry best practices. The document contains incorrect dates.

FOR FURTHER INFORMATION CONTACT: Ms. Marcerto Barr, GSA, 1275 First Street, NE., Washington, DC 20417; telephone: (202) 208-7654; or email: Marcerto.Barr@gsa.gov.

Corrections

In the Federal Register of July 20, 2011, in FR Doc. 2011-18305 (76 FR 43236), the following corrections are made:

1. On page 43237, in the first column, correct the DATES caption to read:

DATES: The meetings will take place on September 20, 2011 and September 21, 2011.

2. On page 43237, in the second column, in the first, third, and fourth paragraphs remove “August 23, 2011” and add “September 6, 2011” in its place.

Dated: July 27, 2011.
Craig J. Flynn,
Deputy Director, Office of Travel, Transportation & Asset Management.

[FR Doc. 2011-19482 Filed 8-1-11; 8:45 am]

BILLING CODE 6820-14-P